DEPARTMENT OF ENERGY

Federal Energy Regulatory Commission

[Project No. 9821-109]

Ampersand Ogdensburg Hydro, LLC; Notice of Application Tendered for Filing With the Commission and Soliciting Additional Study Requests and Establishing Procedural Schedule for Relicensing and a Deadline for Submission of Final Amendments

Take notice that the following hydroelectric application has been filed with the Commission and is available for public inspection.

a. Type of Application: New License.

b. Project No.: 9821-109.

c. Date Filed: May 30, 2025.

d. Applicant: Ampersand Ogdensburg Hydro, LLC (Ampersand).

e. Name of Project: Ogdensburg Hydroelectric Project.

f. Location: On the Oswegatchie River in the city of Ogdensburg, St Lawrence County, New York.

g. Filed Pursuant to: Federal Power Act, 16 U.S.C. 791(a)-825(r).

h. Applicant Contact: Jason Huang, Director, 717 Atlantic Avenue, Suite 1A, Boston, MA 02111; telephone at (617) 933-7200; email at jasonh@ampersandenergy.com.

i. FERC Contact: Joshua Dub, Project Coordinator, Great Lakes Branch, Division of Hydropower Licensing; telephone at (202) 502-8138; email at Joshua.Dub@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: on or before 5:00 p.m. Eastern Time on July 29, 2025.

The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, MD 20852. All filings must clearly identify the project name and docket number on the first page: Ogdensburg Hydroelectric Project (P-9821-109).

m. The application is not ready for environmental analysis at this time.

n. Project Description: The Ogdensburg Project includes a dam that is comprised of: (1) a powerhouse that includes: (a) an intake structure with five stoplog gates and trashracks with 1-inch clear bar spacing; and (b) five 735-kilowatt (kW) horizontal Kaplan turbine-generator units (Units 1 to 5), for a total installed capacity of 3,675 kW; (2) a 38.5-foot-long non-overflow section with three 9-foot-long sluice gates; and (3) a 350-foot-long ogee spillway with a crest elevation of 258.0 feet above mean sea level (msl).

The dam creates an impoundment that has a surface area of 290 acres at the spillway crest elevation of 258.0 feet msl. From the impoundment, water flows through the intake structure to Units 1 to 4, which discharge to a tailrace. From the impoundment, water also flows through Unit 5, which discharges immediately downstream of the dam. The project creates an approximately 750-foot-long bypassed reach.

Electricity generated at the powerhouse is transmitted to the electric grid via 4.16-kilovolt (kV) generator lead lines, a 4.16/13.2-kV step-up transformer, and a 75-foot-long, 13.2-kV transmission line.

Project recreation facilities include a trailer boat access site and parking area on the east shore of the impoundment approximately 750-feet-upstream of the dam.

The minimum and maximum hydraulic capacities of the powerhouse are 183 and 3,650 cubic feet per second (cfs), respectively. The average annual energy production of the project from 2015 through 2023 was 8,629 megawatt-hours.

The current license requires Ampersand to operate the project in run-of-river mode, such that project outflow approximates inflow to the impoundment. The current license requires Ampersand to maintain the impoundment at or above the spillway crest elevation of 258.0 feet msl.

When inflow is less than 183 cfs, the current license requires Ampersand to release all inflow over the spillway. When inflow is between 183 and 632 cfs, the current license requires Ampersand to release all inflow through Unit 5, and if Unit 5 is not operational, release all inflow over the spillway or through the sluice gates of the non-overflow section of the dam. When inflow exceeds 632 cfs, the current license requires Ampersand to release a minimum flow of 450 cfs through Unit 5 and release the remaining flow through any combination of Units 1 to 5, and if Unit 5 is not operational, release 450 cfs over the spillway or sluice gates, and the remaining flow through any combination of Units 1 to 4. In practice, when inflow is between 183 and 730 cfs, Ampersand releases all inflow through Unit 5, and if Unit 5 is not operational, releases all inflow over the spillway.

Ampersand proposes to: (1) continue operating the project in a run-of-river mode; (2) discharge between 183 cfs and 730 cfs through Unit 5, or discharge 730 cfs or inflow, whichever is less, over the spillway when Unit 5 is not operating; (3) implement an Invasive Species Management Plan that was filed with the application; and (4) consult with the New York State Historic Preservation Officer before beginning any land-clearing or land-disturbing activities.

o. In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-9821). For assistance, contact FERC at FERCOnlineSupport@ferc.gov, (866) 208-3676 (toll free), or (202) 502-8659 (TTY).

You may also register online at https://ferconline.ferc.gov/FERCOnline.aspx to be notified via email of new filings and issuances related to this or other pending projects. For assistance, contact FERC Online Support.

p. The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

q. Procedural Schedule: The application will be processed according to the following preliminary schedule. Revisions to the schedule will be made as appropriate.

Issue Deficiency Letter and Request Additional Information—July 2025

Request Additional Information (if necessary)—November 2025

Issue Notice of Application Accepted for Filing—November 2025

Issue Scoping Document 1 for comments—November 2025

Issue Scoping Document 2 (if necessary)—December 2025

Issue Notice of Ready for Environmental Analysis—December 2025

r. Final amendments to the application must be filed with the Commission no later than 30 days from the issuance date of the notice of ready for environmental analysis.

Dated: June 12, 2025.
Carlos D. Clay,
Deputy Secretary.

[FR Doc. 2025-11167 Filed 6-16-25; 8:45 am]

BILLING CODE 6717-01-P